DEPARTMENT OF TRANSPORTATION

National Highway Traffic Safety Administration

[Docket No. NHTSA-2025-0094]

Nix Coach Interiors, LLC—Receipt of Petition for Temporary Exemption From Shoulder Belt Requirements for Side-Facing Seats on Motorcoaches

AGENCY: National Highway Traffic Safety Administration (NHTSA), Department of Transportation (DOT).

ACTION: Notice of receipt of petition for temporary exemption; request for comment.

SUMMARY: NHTSA has received a request for a temporary exemption from Nix Coach Interiors, LLC, (petitioner) seeking a temporary exemption from a shoulder belt requirement of Federal Motor Vehicle Safety Standard (FMVSS) No. 208, “Occupant crash protection,” for side-facing seats on motorcoaches. The petitioner seeks an exemption to allow them to install Type 1 seat belts (lap belt only) at side-facing seating positions, instead of Type 2 seat belts (lap and shoulder belts) required by FMVSS No. 208. The petitioner states that, absent the requested exemption, it will otherwise be unable to sell a motor vehicle whose overall level of safety is equivalent to or exceeds the overall level of safety of non-exempted motor vehicles. NHTSA is publishing this document to notify the public of the receipt of the petition and to request comment on it, in accordance with statutory and administrative provisions.

DATES: If you would like to comment, you should submit your comment no later than September 29, 2025.

FOR FURTHER INFORMATION CONTACT: Callie Roach, Attorney Advisor, Office of the Chief Counsel, NCC-200, National Highway Traffic Safety Administration, 1200 New Jersey Avenue SE, Washington, DC 20590, callie.roach@dot.gov, (202) 597-1312; or Devon Fray, Honors Attorney, Office of the Chief Counsel, NCC-200, National Highway Traffic Safety Administration, 1200 New Jersey Avenue SE, Washington, DC 20590, devon.fray@dot.gov.

ADDRESSES: You may submit your comment, identified by the docket number in the heading of this document, by any of the following methods:

• Federal eRulemaking Portal: Go to http://www.regulations.gov. Follow the online instructions for submitting comments.

• Fax: (202) 493-2251.

• Mail: U.S. Department of Transportation, Docket Operations, M-30, Room W12-140, 1200 New Jersey Avenue SE, Washington, DC 20590.

• Hand Delivery: 1200 New Jersey Avenue SE, West Building Ground Floor, Room W12-140, Washington, DC, between 9 a.m. and 5 p.m., Monday through Friday, except Federal Holidays. To be sure someone is there to help you, please call (202) 366-9322 before coming.

Instructions: All submissions must include the agency name and docket number.

Note that all comments received will be posted without change to http://www.regulations.gov, including any personal information provided. Please see the Privacy Act discussion below. NHTSA will consider all comments received before the close of business on the comment closing date indicated above. To the extent possible, NHTSA will also consider comments filed after the closing date.

Docket: For access to the docket to read background documents or comments received, go to http://www.regulations.gov at any time or to 1200 New Jersey Avenue SE, West Building Ground Floor, Room W12-140, Washington, DC 20590, between 9 a.m. and 5 p.m. Monday through Friday, except Federal Holidays. Telephone: (202) 366-9826. To be sure someone is there to help you, please call (202) 366-9322 before coming.

Privacy Act: In accordance with 5 U.S.C. 553(c), DOT solicits comments from the public to better inform its rulemaking process. DOT posts these comments, without edit, to www.regulations.gov, as described in the system of records notice, DOT/ALL-14 FDMS, accessible through www.dot.gov/privacy. To facilitate comment tracking and response, the agency encourages commenters to provide their name, or the name of their organization; however, submission of names is completely optional. Whether or not commenters identify themselves, all timely comments will be fully considered. If you wish to provide comments containing proprietary or confidential information, please see below.

Confidential Business Information: If you wish to submit any information under a claim of confidentiality, you must submit your request directly to NHTSA's Office of the Chief Counsel. Requests for confidentiality are governed by part 512. NHTSA is currently treating electronic submission as an acceptable method for submitting confidential business information to the agency under part 512. If you would like to submit a request for confidential treatment, you may email your submission to Dan Rabinovitz in the Office of the Chief Counsel at Daniel.Rabinovitz@dot.gov or you may contact Dan for a secure file transfer link. At this time, you should not send a duplicate hardcopy of your electronic CBI submissions to DOT headquarters. If you claim that any of the information or documents provided to the agency constitute confidential business information within the meaning of 5 U.S.C. 552(b)(4), or are protected from disclosure pursuant to 18 U.S.C. 1905, you must submit supporting information together with the materials that are the subject of the confidentiality request, in accordance with part 512, to the Office of the Chief Counsel. Your request must include a cover letter setting forth the information specified in our confidential business information regulation (49 CFR 512.8) and a certificate, pursuant to § 512.4(b) and part 512, appendix A. In addition, you should submit a copy, from which you have deleted the claimed confidential business information, to the Docket at the address given above.

SUPPLEMENTARY INFORMATION:

I. Background

a. Authority and Procedures for Temporary Exemptions

The National Traffic and Motor Vehicle Safety Act (Safety Act), codified as 49 U.S.C. Chapter 301, authorizes the Secretary of Transportation to exempt, on a temporary basis, under specified circumstances, and on terms the Secretary considers appropriate, motor vehicles from a motor vehicle safety standard or bumper standard. This authority and circumstances are set forth in 49 U.S.C. 30113. The Secretary has delegated the authority for implementing this section to NHTSA.¹

¹ 49 CFR 1.95.

The Safety Act authorizes the Secretary to grant, in whole or in part, a temporary exemption to a vehicle manufacturer if the Secretary makes one of four specified findings.² The Secretary must also look comprehensively at the request for exemption and find that the exemption is consistent with the public interest and with the objectives of the Safety Act.³ The Secretary must evaluate the petition for exemption under at least one of the following bases:

² 49 U.S.C. 30113(b)(3).

³ 49 U.S.C. 30113(b)(3)(A).

(i) Compliance would cause substantial economic hardship, and the manufacturer tried to comply in good faith;

(ii) the exemption would make easier the development or field evaluation of a new motor vehicle safety feature, and the safety level is equal to the safety level of the standard;

(iii) the exemption would make the development or field evaluation of a low-emission motor vehicle easier, and the safety level of the vehicle is not unreasonably lowered; or

(iv) compliance would prevent the manufacturer from selling a motor vehicle with an overall safety level at least equal to the overall safety level of nonexempt vehicles.⁴

⁴ 49 U.S.C. 30113(b)(3)(B).

NHTSA established 49 CFR part 555, Temporary Exemption from Motor Vehicle Safety and Bumper Standards, to implement the statutory provisions concerning temporary exemptions, including renewals of temporary exemptions. Under Part 555 subpart A, a vehicle manufacturer seeking an exemption or renewal of an exemption must submit a petition for exemption containing specified information. The requirements in 49 CFR 555.5 state that the petitioner must set forth the basis of the petition by providing the information required under 49 CFR 555.6, and the reasons why the exemption would be in the public interest and consistent with the objectives of the Safety Act. Nix Coach Interiors, LLC's petition, which was submitted on the basis that the applicant is otherwise unable to sell a vehicle whose overall level of safety or impact protection is at least equal to that of a nonexempt vehicle must include the information specified in 49 CFR 555.6(d). A manufacturer is eligible for an exemption on this basis only if NHTSA determines the exemption is for not more than 2,500 vehicles to be sold in the U.S. in any 12-month period. An exemption on this basis may be granted for not more than two years but may be renewed upon reapplication.⁵

⁵ 555.8(b) and 555.8(e).

b. FMVSS No. 208

On November 25, 2013, NHTSA published a final rule amending FMVSS No. 208 to require seat belts for each passenger seating position in all new over-the-road buses (OTRBs) regardless of gross vehicle weight rating (GVWR), and all other buses with GVWRs greater than 11,793 kilograms (kg) (26,000 pounds (lb)) (with certain exclusions).⁶

⁶ 78 FR 70415 (November 25, 2013); response to petitions for reconsideration, 81 FR 19902 (April 6, 2016). The final rule became effective November 28, 2016 for buses manufactured in a single stage, and a year later for buses manufactured in more than one stage.

In the notice of proposed rulemaking (NPRM) preceding the final rule (75 FR 50958, August 18, 2010), NHTSA proposed to permit manufacturers the option of installing either a Type 1 (lap belt) or a Type 2 (lap and shoulder belt) on side-facing seats.⁷ The proposed option was consistent with an existing provision in FMVSS No. 208 that allows lap belts for side-facing seats on buses with a GVWR of 4,536 kg (10,000 lb) or less. NHTSA proposed the option because the agency was unaware of any demonstrable increase in associated risks using lap belts when compared to using lap and shoulder belts on side-facing seats. In the NPRM, NHTSA noted that “a study commissioned by the European Commission regarding side-facing seats on minibuses and motorcoaches found that due to different seat belt designs, crash modes and a lack of real-world data, it cannot be determined whether a lap belt or a lap/shoulder belt would be the most effective.” ⁸

⁷ 75 FR at 50971.

⁸ 75 FR at 50971-50972 (citing http://ec.europa.eu/enterprise/automotive/projects/safety_consid_long_stg.pdf).

However, after the NPRM was published, the Motorcoach Enhanced Safety Act of 2012 was enacted as part of the Moving Ahead for Progress in the 21st Century Act ((MAP-21), Public Law 112-141 (July 6, 2012)). Section 32703(a) of MAP-21 directed the Secretary of Transportation (with authority delegated to NHTSA) to “prescribe regulations requiring safety belts to be installed in motorcoaches at each designated seating position.” ⁹ As MAP-21 defined “safety belt” to mean an integrated lap and shoulder belt, the final rule amended FMVSS No. 208 to require lap and shoulder belts at all designated seating positions, including side-facing seats, on OTRBs.¹⁰

⁹ MAP-21 states at § 32702(6) that “the term `motorcoach' has the meaning given the term `over-the-road bus' in section 3038(a)(3) of the Transportation Equity Act for the 21st Century (49 U.S.C. 5310 note), but does not include a bus used in public transportation provided by, or on behalf of, a public transportation agency; or a school bus, including a multifunction school activity bus.” Section 3038(a)(3) (49 U.S.C. 5310 note) states: “The term `over-the-road bus' means a bus characterized by an elevated passenger deck located over a baggage compartment.”

¹⁰ For side-facing seats on buses other than OTRBs, in the final rule NHTSA permitted either lap or lap/shoulder belts at the manufacturer's option.

Even as it did so, however, the agency reiterated its view that “the addition of a shoulder belt at [side-facing seats on light vehicles] is of limited value, given the paucity of data related to side facing seats.” ¹¹ The agency also noted that Australian Design Rule ADR 5/04, “Anchorages for Seatbelts” specifically prohibits shoulder belts for side-facing seats.¹² Given that background, and believing there would be few side-facing seats on OTRBs, NHTSA stated in the November 2013 final rule that manufacturers may petition NHTSA for a temporary exemption under 49 CFR part 555 to install lap belts instead of lap and shoulder belts at side-facing seats.¹³ NHTSA further explained that a manufacturer could seek such an exemption on the basis that the applicant is otherwise unable to sell a vehicle whose overall level of safety is at least equal to that of an nonexempted vehicle, stating that the agency would be receptive to an argument that, for side-facing seats, lap belts provide an equivalent level of safety to lap and shoulder belts.¹⁴

¹¹ 78 FR at 70448 (quoting the agency's Anton's Law final rule, which required lap/shoulder belts in forward-facing rear seating positions of light vehicles, 59 FR 70907).

¹² Fildes, B., Digges, K., “Occupant Protection in Far Side Crashes,” Monash University Accident Research Center, Report No. 294, April 2010, pg. 57.

¹³ Id.

¹⁴ Id.

Since issuing the November 2013 final rule, NHTSA has granted temporary exemptions to sixteen final stage manufacturers of entertainer buses for the same shoulder belt requirement in FMVSS No. 208 for side-facing seats on entertainer buses.¹⁵

¹⁵ The first petition was submitted by Hemphill Brothers Leasing Company, LLC (Hemphill). (Notice of receipt of petition, 84 FR 11735 (March 28, 2019); notice of grant of petition, 84 FR 61966 (November 14, 2019)). In its original petition, Hemphill stated that thirty-nine “other petitioners” were covered by it. Later, NHTSA granted the thirteen petitions submitted by All Access Coach Leasing LLC, Amadas Coach, Creative Mobile Interiors, D&S Classic Coach Inc., Farber Specialty Vehicles, Florida Coach, Inc., Geomarc, Inc., Integrity Interiors LLC, Nitetrain Coach Company, Inc., Pioneer Coach Interiors LLC, Roberts Brothers Coach Company, Russell Coachworks LLC, and Ultra Coach Inc. (Notice of receipt of the petitions, 85 FR 51550 (August 20, 2020); notice of grant of petitions, 87 FR 33299 (June 1, 2022)). NHTSA then granted an exemption to Beat the Street Interiors, Inc. (BTS). (Notice of receipt of petition, 88 FR 25445 (April 26, 2023); notice of grant of petition, 88 FR 78093 (November 14, 2023)). Most recently, NHTSA granted an exemption to Legacy Limousines and Luxury Coaches. (Notice of receipt of petition, 89 FR 87722 (November 4, 2024); notice of grant of petition, 90 FR 7234 (January 21, 2025)).

In a recent decision notice granting one of these exemptions,¹⁶ NHTSA's rationale for granting the exemption cited the uncertainties about shoulder belts on side-facing seats, the relatively small number of side-facing seats on buses subject to the November 2013 final rule, and that FMVSS No. 208 does not require shoulder belts on side-facing seats on any other vehicle type.¹⁷ NHTSA stated that it believes the potential safety risk at issue is theoretical, as explained in the in November 2013 final rule, and that the agency could not affirmatively conclude, based on available information, that shoulder belts on side-facing seats are associated with a demonstrated risk of serious neck injuries in front crashes. NHTSA also stated that it believes a shoulder belt is of limited value on side-facing seats for the reasons explained in the final rule and further explained that it believed granting the exemption is consistent with the public interest and the Safety Act.

¹⁶ 88 FR 25445.

¹⁷ 88 FR 25445.

II. Receipt of Petition

In accordance with 49 U.S.C. 30113 and the procedures in 49 CFR part 555, a final-stage manufacturer of entertainer motorcoaches has submitted a petition asking NHTSA for a temporary exemption from the shoulder belt requirement of FMVSS No. 208 for side-facing seats on its vehicles. The petitioner seeks an exemption to allow them the option of installing Type 1 seat belts (lap belt only) at side-facing seating locations, instead of Type 2 seat belts (lap and shoulder belts) as required by FMVSS No. 208. The basis of the petition is that compliance would prevent the petitioner from selling a motor vehicle whose overall level of safety is equivalent to or exceeds the overall level of safety of non-exempted motor vehicles (49 CFR 555.6(d)).

A copy of this petition has been placed in the docket listed in the heading of this notice. To view the petition, go to http://www.regulations.gov and enter the docket number in the heading.

a. Brief Overview of the Petition

The petitioner states that it is a final-stage manufacturer of entertainer-type motorcoaches and is responsible for ensuring the completed vehicle meets the FMVSS. The petitioner also states that it typically receives a bus shell ¹⁸ from an incomplete vehicle manufacturer and customizes it to meet the needs of its entertainer clients, politician clients, celebrity clients, and other specialized customers. The petitioner states that it “builds out the complete interior of the vehicle” of the bus shell, which might include: roof escape hatch; fire suppression systems (interior living space, rear tires, electrical panels, bay storage compartments, and generator); ceiling, side walls and flooring; seating; electrical system, generator, invertor and house batteries; interior lighting; interior entertainment equipment; heating, ventilation and cooling system; galley with potable water, cooking equipment, refrigerators, and storage cabinets; bathroom and showers; and sleeping positions.

¹⁸ The petition describes the bus shell as generally containing the following components: exterior frame; driver's seat; dash cluster, speedometer, emissions light and emissions diagnosis connector; exterior lighting, headlights, marker lights, turn signal lights, and brake lights; exterior glass, windshield and side lights with emergency exits; windshield wiper system; braking system; tires, tire pressure monitoring system and suspension; and engine and transmission.

Pursuant to 49 CFR 555.6(d), an application must provide “[a] detailed analysis of how the vehicle provides the overall level of safety or impact protection at least equal to that of nonexempted vehicles.”

The petitioner reiterates, as part of their justification that the vehicles provide an overall level of safety equivalent to that of a nonexempted vehicle, statements made in NHTSA's 2013 final rule. Specifically, the petitioner cites NHTSA's statement that it believed “the addition of a shoulder belt at this seat position is of limited value, given the paucity of data related to side facing seats.” Amongst other concerns, the petitioner also cites NHTSA's conclusion in the 2013 final rule that: “[t]here is not sufficient information that substantiates concerns about lap/shoulder belts on side-facing seats to a degree that would support prohibiting such belts.” Additional details are provided in the petition, which may be located in the docket identified at the top of this document.

Pursuant to 49 CFR 555.5(b)(7), petitioner must state why granting an exemption allowing it to install Type 1 instead of Type 2 seat belts in side-facing seats would be in the public interest and consistent with the objectives of the Safety Act. The petitioner states that granting it an exemption would be in the public interest as it would allow the petitioner the option to install Type 1 lap belts at sideways-facing seating positions. This would be in line with NHTSA's analysis in development of the 2013 final rule, which found that “such belts presented no demonstrable increase in associated risk,” and that “Type 2 belts at side-facing seats might cause serious neck injuries.”

In support of the petition, the petitioner also states that fewer than 100 entertainer-type motorcoaches with side-facing seats are manufactured in the U.S. market each year and indicated that the number of exempted vehicles the petitioner would manufacture would be well below the limit.

The petitioner also indicates that it expects to seek to renew this exemption, if granted, at the end of the exemption period. In support of this intention, the petitioner notes the agency's apparent lack of research, testing, or analysis to justify the use of Type 2 belts on side-facing seats in over-the-road-buses.

IV. Comment Period

The agency seeks comments from the public on the merits of the petition requesting a temporary exemption from FMVSS No. 208's shoulder belt requirement for side-facing seats. The petitioner seeks to install lap belts at the side-facing seats; they do not seek to be completely exempted from a belt requirement. Further, the petitioner's request does not pertain to forward-facing designated seating positions on their vehicles. Under FMVSS No. 208, forward-facing seating positions on motorcoaches must have Type 2 lap and shoulder belts, and the petitioner is not seeking an exemption from that requirement for forward-facing seats. After considering public comments and other available information, NHTSA will publish a notice of final action on the petition in the Federal Register.

Authority: 49 U.S.C. 30113; delegation of authority at 49 CFR 1.95 and 501.5.

Peter Simshauser,
Chief Counsel.

[FR Doc. 2025-14384 Filed 7-29-25; 8:45 am]

BILLING CODE 4910-59-P